EQUAL EMPLOYMENT OPPORTUNITY COMMISSION

Agency Information Collection Activities: Proposed Collection; Submission for OMB Review

AGENCY: Equal Employment Opportunity Commission.

ACTION: Final notice of submission for OMB review.

SUMMARY: In accordance with the Paperwork Reduction Act of 1995, the Equal Employment Opportunity Commission (EEOC) hereby gives notice that it has submitted to the Office of Management and Budget (OMB) a request for an extension of the existing collection requirements under 29 CFR 1602, Recordkeeping and Reporting Requirements under Title VII and the ADA. The Commission has requested an extension of an existing collection as listed below.

DATES: Written comments on this final notice must be submitted on or before March 26, 2007.

ADDRESSES: The Request for Clearance (SF 83-I), supporting statement, and other documents submitted to OMB for review may be obtained from: Mona Papillon, General Attorney, 1801 L Street, NW., Washington, DC 20507. Comments on this final notice must be submitted to Brenda Aquilar, Office of Information and Regulatory Affairs, Office of Management and Budget, 725 17th Street, NW., Room 10235, New Executive Office Building, Washington, DC 20503 or electronically mailed to baguilar@omb.eop.gov. Comments should also be sent to Stephen Llewellyn, Executive Officer, Executive Secretariat, Equal Employment Opportunity Commission, 10th Floor, 1801 L Street, NW., Washington, DC 20507. As a convenience to commentators, the Executive Secretariat will accept comments totaling six or fewer pages by facsimile (“FAX”) machine. This limitation is necessary to assure access to the equipment. The telephone number of the FAX receiver is (202) 663-4114. (This is not a toll-free number). Receipt of FAX transmittals will not be acknowledged, except that the sender may request confirmation of receipt by calling the Executive Secretariat staff at (202) 663-4070 (voice) or (202) 663-4074 (TDD). (These are not toll-free telephone numbers.)

FOR FURTHER INFORMATION CONTACT: Thomas J. Schlageter, Assistant Legal Counsel or Mona Papillon, General Attorney, at (202) 663-4660 or TDD (202) 663-4074. This notice is also available in the following formats: large print, braille, audio tape and electronic file on computer disk. Requests for this notice in an alternative format should be made to the Publications Center at 1-800-669-3362.

SUPPLEMENTARY INFORMATION: A notice that EEOC would be submitting this request was published in the Federal Register on November 20, 2006, allowing for a 60-day public comment period. No comments were received.

Overview of This Information Collection

Type of Review: Extension—No change.

Collection Title: Recordkeeping and Reporting under Title VII and the ADA.

Form No.: None.

Frequency of Report: Other.

Type of Respondent: Employers with 15 or more employees.

Description of Affected Public: Employers with 15 or more employees are subject to Title VII and the ADA.

Responses: 627,000.

Reporting Hours: One.

Federal Cost: None.

Abstract: Section 709 of Title VII, 42 U.S.C. 2000e and section 107(a) of the ADA, 42 U.S.C. 12117 require the Commission to establish regulations pursuant to which employers subject to those Acts shall make and preserve certain records to assist the EEOC in assuring compliance with the Acts' nondiscrimination requirements in employment. This is a recordkeeping requirement. Any of the records maintained which are subsequently disclosed to the EEOC during an investigation are protected from public disclosure by the confidentiality provisions of section 706(b) and 709(e) of Title VII, which are also incorporated into the ADA at section 107(a).

Burden Statement: The estimated number of respondents is approximately 627,000 employers. The recordkeeping obligation does not require reports or the creation of new documents; it merely requires retention of documents that the employer has made or kept. Thus, the burden imposed by these regulations is minimal. The burden is estimated to be less than one hour per employer.

Dated: February 6, 2007.
For the Commission.
Naomi C. Earp,
Chair.

[FR Doc. E7-2908 Filed 2-21-07; 8:45 am]

BILLING CODE 6570-01-P